DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before May 23, 2018.

ADDRESSES: You may submit your comments, identified by “docket number” on the subject line, by any of the following methods:

1. Electronic Mail: zzMSHA-comments@dol.gov. Include docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2018-006-C.

Petitioner: Wolf Run Mining LLC, 21550 Barbour County Highway, Philippi, West Virginia 26416.

Mine: Sentinel Mine, MSHA I.D. No. 46-04168, located in Barbour County, West Virginia.

Regulation Affected: 30 CFR 75.500(d) (Permissible electric equipment).

Modification Request: The petitioner requests a modification of the existing standard to permit an alternative method of compliance to allow the use of nonpermissible electronic low-voltage or battery-powered nonpermissible electronic hand-held drill equipment in or inby the last open crosscut.

The petitioner states that:

(1) Nonpermissible electronic low-voltage or battery-powered nonpermissible electronic equipment will be limited to hand-held drill equipment.

(2) All other hand-held drill equipment used in or inby the last open crosscut will be permissible.

(3) Other hand-held drill equipment may be used if approved in advance by the MSHA District Manager.

(4) All nonpermissible low-voltage or battery-powered nonpermissible hand-held equipment to be used in or inby the last open crosscut will be examined prior to use by a certified person to ensure the equipment is being maintained in a safe operating condition.

(5) The results of the examinations will be recorded and retained for one year and made available to MSHA on request.

(6) A qualified person, as defined in 30 CFR 75.151, will continuously monitor for methane immediately before and during the use of nonpermissible hand-held drill equipment in or inby the last open crosscut.

(7) Nonpermissible hand-held drill equipment will not be used if methane is detected in concentrations at or above 1.0 percent. When methane is detected at such level while the nonpermissible hand-held drill equipment is being used, the equipment will be deenergized immediately and withdrawn outby the last open crosscut.

(8) All hand-held methane detectors will be MSHA-approved and maintained in permissible and proper operating condition as defined in 30 CFR 75.320.

(9) Coal production will cease in the entry or crosscut where the nonpermissible hand-held drill equipment is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Docket Number: M-2018-007-C.

Petitioner: Wolf Run Mining LLC, 21550 Barbour County Highway, Philippi, West Virginia 26416.

Mine: Sentinel Mine, MSHA I.D. No. 46-04168, located in Barbour County, West Virginia.

Regulation Affected: 30 CFR 75.507-1(a) (Electric equipment other than power-connection points; outby the last open crosscut; return air; permissibility requirements).

Modification Request: The petitioner requests a modification of the existing standard to permit an alternative method of compliance to allow the use of nonpermissible electronic low-voltage or battery-powered nonpermissible electronic hand-held drill equipment in return airways.

The petitioner states that:

(1) Nonpermissible electronic low-voltage or battery-powered nonpermissible electronic equipment will be limited to hand-held drill equipment.

(2) All other hand-held drill equipment used in return airways will be permissible.

(3) Other hand-held drill equipment may be used if approved in advance by the MSHA District Manager.

(4) All nonpermissible low-voltage or battery-powered nonpermissible hand-held equipment to be used in return airways will be examined prior to use by a certified person to ensure equipment is being maintained in a safe operating condition.

(5) The results of the examinations will be recorded and retained for one year and made available to MSHA on request.

(6) A qualified person, as defined in 30 CFR 75.151, will continuously monitor for methane immediately before and during the use of nonpermissible hand-held drill equipment in return airways.

(7) Nonpermissible hand-held drill equipment will not be used if methane is detected in concentrations at or above 1.0 percent. When methane is detected at such level while the nonpermissible hand-held drill equipment is being used, the equipment will be deenergized immediately and withdrawn out of return airways.

(8) All hand-held methane detectors will be MSHA-approved and maintained in permissible and proper operating condition as defined in 30 CFR 75.320.

(9) Coal production will cease in the entry or crosscut where the nonpermissible hand-held drill equipment is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Docket Number: M-2018-008-C.

Petitioner: Wolf Run Mining LLC, 21550 Barbour County Highway, Philippi, West Virginia 26416.

Mine: Sentinel Mine, MSHA I.D. No. 46-04168, located in Barbour County, West Virginia.

Regulation Affected: 30 CFR 75.1002(a) (Installation of electric equipment and conductors; permissibility).

Modification Request: The petitioner requests a modification of the existing standard to permit an alternative method of compliance to allow the use of nonpermissible electronic low-voltage or battery-powered nonpermissible electronic hand-held drill equipment within 150 feet of pillar workings or longwall faces.

The petitioner states that:

(1) Nonpermissible electronic low-voltage or battery-powered nonpermissible electronic equipment will be limited to hand-held drill equipment.

(2) All other hand-held drill equipment used within 150 feet of pillar workings or longwall faces will be permissible.

(3) Other hand-held drill equipment may be used if approved in advance by the MSHA District Manager.

(4) All nonpermissible low-voltage or battery-powered nonpermissible hand-held equipment to be used within 150 feet of pillar workings or longwall faces will be examined prior to use by a certified person to ensure equipment is being maintained in a safe operating condition.

(5) The results of the examinations will be recorded and retained for one year and made available to MSHA on request.

(6) A qualified person, as defined in 30 CFR 75.151, will continuously monitor for methane immediately before and during the use of nonpermissible hand-held drill equipment within 150 feet of pillar workings or longwall faces.

(7) Nonpermissible hand-held drill equipment will not be used if methane is detected in concentrations at or above 1.0 percent. When methane is detected at such level while the nonpermissible hand-held drill equipment is being used, the equipment will be deenergized immediately and withdrawn further than 150 feet of pillar workings or longwall faces.

(8) All hand-held methane detectors will be MSHA-approved and maintained in permissible and proper operating condition as defined in 30 CFR 75.320.

(9) Coal production will cease in the entry or crosscut where the nonpermissible hand-held drill equipment is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Docket Number: M-2018-009-C.

Petitioner: Mingo Logan Coal LLC, P.O. Box E, Sharples, West Virginia 25183.

Mine: Mountaineer II Mine, MSHA I.D. No. 46-09029, located in Logan County, West Virginia.

Regulation Affected: 30 CFR 75.500(d) (Permissible electric equipment).

Modification Request: The petitioner requests a modification of the existing standard to permit an alternative method of compliance to allow the use of nonpermissible electronic low-voltage or battery-powered nonpermissible electronic hand-held drill equipment in or inby the last open crosscut.

The petitioner states that:

(1) Nonpermissible electronic low-voltage or battery-powered nonpermissible electronic equipment will be limited to hand-held drill equipment.

(2) All other hand-held drill equipment used in or inby the last open crosscut will be permissible.

(3) Other hand-held drill equipment may be used if approved in advance by the MSHA District Manager.

(4) All nonpermissible low-voltage or battery-powered nonpermissible hand-held equipment to be used in or inby the last open crosscut will be examined prior to use by a certified person to ensure the equipment is being maintained in a safe operating condition.

(5) The results of the examinations will be recorded and retained for one year and made available to MSHA on request.

(6) A qualified person, as defined in 30 CFR 75.151, will continuously monitor for methane immediately before and during the use of nonpermissible hand-held drill equipment in or inby the last open crosscut.

(7) Nonpermissible hand-held drill equipment will not be used if methane is detected in concentrations at or above 1.0 percent. When methane is detected at such level while the nonpermissible hand-held drill equipment is being used, the equipment will be deenergized immediately and withdrawn outby the last open crosscut.

(8) All hand-held methane detectors will be MSHA-approved and maintained in permissible and proper operating condition as defined in 30 CFR 75.320.

(9) Coal production will cease in the entry or crosscut where the drill is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Docket Number: M-2018-010 C.

Petitioner: Mingo Logan Coal LLC, P.O. Box E, Sharples, West Virginia 25183.

Mine: Mountaineer II Mine, MSHA I.D. No. 46-09029, located in Logan County, West Virginia.

Regulation Affected: 30 CFR 75.507-1(a) (Electric equipment other than power-connection points; outby the last open crosscut; return air; permissibility requirements).

Modification Request: The petitioner requests a modification of the existing standard to permit an alternative method of compliance to allow the use of nonpermissible electronic low-voltage or battery-powered nonpermissible electronic hand-held drill equipment in return airways.

The petitioner states that:

(1) Nonpermissible electronic low-voltage or battery-powered nonpermissible electronic equipment will be limited to hand-held drill equipment.

(2) All other hand-held drill equipment used in return airways will be permissible.

(3) Other hand-held drill equipment may be used if approved in advance by the MSHA District Manager.

(4) All nonpermissible low-voltage or battery-powered nonpermissible hand-held equipment to be used in return airways will be examined prior to use by a certified person to ensure equipment is being maintained in a safe operating condition.

(5) The results of the examinations will be recorded and retained for one year and made available to MSHA on request.

(6) A qualified person, as defined in 30 CFR 75.151, will continuously monitor for methane immediately before and during the use of nonpermissible hand-held drill equipment in return airways.

(7) Nonpermissible hand-held drill equipment will not be used if methane is detected in concentrations at or above 1.0 percent. When methane is detected at such level while the nonpermissible hand-held drill equipment is being used, the equipment will be deenergized immediately and withdrawn out of return airways.

(8) All hand-held methane detectors will be MSHA-approved and maintained in permissible and proper operating condition as defined in 30 CFR 75.320.

(9) Coal production will cease in the entry or crosscut where the drill is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Docket Number: M-2018-011-C.

Petitioner: Mingo Logan Coal LLC, P.O. Box E, Sharples, West Virginia 25183.

Mine: Mountaineer II Mine, MSHA I.D. No. 46-09029, located in Logan County, West Virginia.

Regulation Affected: 30 CFR 75.1002(a) (Installation of electric equipment and conductors; permissibility).

Modification Request: The petitioner requests a modification of the existing standard to permit an alternative method of compliance to allow the use of nonpermissible electronic low-voltage or battery-powered nonpermissible electronic hand-held drill equipment within 150 feet of pillar workings or longwall faces.

The petitioner states that:

(1) Nonpermissible electronic low-voltage or battery-powered nonpermissible electronic equipment will be limited to hand-held drill equipment.

(2) All other hand-held drill equipment used within 150 feet of pillar workings or longwall faces will be permissible.

(3) Other hand-held drill equipment may be used if approved in advance by the MSHA District Manager.

(4) All nonpermissible low-voltage or battery-powered nonpermissible hand-held equipment to be used within 150 feet of pillar workings or longwall faces will be examined prior to use by a certified person to ensure equipment is being maintained in a safe operating condition.

(5) The results of the examinations will be recorded and retained for one year and made available to MSHA on request.

(6) A qualified person, as defined in 30 CFR 75.151, will continuously monitor for methane immediately before and during the use of nonpermissible hand-held drill equipment within 150 feet of pillar workings or longwall faces.

(7) Nonpermissible hand-held drill equipment will not be used if methane is detected in concentrations at or above 1.0 percent. When methane is detected at such level while the nonpermissible hand-held drill equipment is being used, the equipment will be deenergized immediately and withdrawn further than 150 feet of pillar workings or longwall faces.

(8) All hand-held methane detectors will be MSHA-approved and maintained in permissible and proper operating condition as defined in 30 CFR 75.320.

(9) Coal production will cease in the entry or crosscut where the drill is in use. Accumulations of coal and combustible materials referenced in 30 CFR 75.400 will be removed before drilling begins to provide additional safety to miners.

(10) Nonpermissible electronic hand-held drill equipment will not be used when float coal dust is in suspension.

(11) All hand-held drill equipment will be used in accordance with the manufacturer's recommended safe use procedures.

(12) Qualified personnel who use nonpermissible hand-held drill equipment will be properly trained to recognize the hazards and limitations associated with use of such equipment in areas where methane could be present.

(13) The nonpermissible electronic hand-held drill equipment will not be put into service until MSHA has initially inspected the equipment and determined that it is in compliance with all of the above terms and conditions.

(14) Cables supplying power to low-voltage hand-held drill equipment will only be used when permissible hand-held drill equipment is not available.

Within 60 days after the Proposed Decision and Order (PDO) becomes final, the petitioner will submit proposed revisions for its Part 48 training plan to the District Manager. These revisions will specify initial and refresher training regarding the terms and conditions in the PDO.

The petitioner asserts that the proposed alternative method will at all times guarantee no less than the same measure of protection afforded by the existing standard.

Sheila McConnell,
Director, Office of Standards, Regulations, and Variances.

[FR Doc. 2018-08408 Filed 4-20-18; 8:45 am]

BILLING CODE 4520-43-P